ENVIRONMENTAL PROTECTION AGENCY

[FRL-9435-3]

Notification of Public Teleconferences of the Science Advisory Board Radiation Advisory Committee Augmented With Additional Experts for a Consultation on Revisions to the Multi-Agency Radiation Survey and Site Investigation Manual

AGENCY: Environmental Protection Agency (EPA), Science Advisory Board Staff Office.

ACTION: Notice.

SUMMARY: The EPA Science Advisory Board (SAB) Staff Office announces two teleconferences of the Radiation Advisory Committee (RAC) augmented for a consultation on the revisions to the Multi-Agency Radiation Survey and Site Investigation Manual (MARSSIM).

DATES: The public teleconferences will be conducted on Tuesday, July 26, and Wednesday, July 27, 2011, from 1 p.m. to 5 p.m. (Eastern Daylight Time) on each day.

ADDRESSES: The public teleconferences will be conducted by telephone only.

Purpose of the Teleconferences and Meeting: The purpose of the July 26 and 27, 2011 teleconferences is to discuss proposed revisions that may be needed to update the current MARSSIM manual, dated August, 2001.

FOR FURTHER INFORMATION CONTACT: Any member of the public wishing further information regarding this Notice may contact Dr. K. Jack Kooyoomjian, Designated Federal Officer (DFO), SAB Staff Office (1400R), 1200 Pennsylvania Avenue, NW., Washington, DC 20460; or by telephone/voice mail at (202)-564-2064, or via email at kooyoomjian.jack@epa.gov. General information concerning the EPA Science Advisory Board can be found at the EPA SAB Web site at http//www.epa.gov/sab.

Technical Contact: Technical background information pertaining to the MARSSIM document can be found at http://epa.gov/radiation/marssim. The MARSSIM provides information on planning, conducting, evaluating, and documenting building surface and surface soil final status radiological surveys for demonstrating compliance with dose or risk-based regulations or standards. For questions concerning the technical aspects of this topic, please contact Dr. Mary E. Clark of the U.S. EPA, ORIA by telephone at (202) 343-9348, or via e-mail at clark.marye@epa.gov.

SUPPLEMENTARY INFORMATION:

Background: The SAB was established pursuant to the Environmental Research, Development, and Demonstration Authorization Act (ERDAA), codified at 42 U.S.C. 4365, to provide independent scientific and technical peer review advice, consultation and recommendations to the EPA Administrator on the technical basis for Agency actions, positions and regulations. As a Federal Advisory Committee, the SAB conducts business in accordance with the Federal Advisory Committee Act (FACA) (5 U.S.C. App. 2) and related regulations. Pursuant to FACA and EPA policy, notice is hereby given that the SAB will hold two public teleconferences. The SAB will comply with the provisions of FACA and all appropriate EPA and SAB Staff Office procedural policies.

The MARSSIM is the official multi-agency (U.S EPA, U.S. Nuclear Regulatory Commission, U.S. Department of Energy and U.S. Department of Defense) consensus document on planning, coordinating, evaluating and documenting environmental radiological surveys prepared by those federal agencies having authority and control over radioactive materials. These four federal agencies also comprise the MARSSIM Workgroup, which developed the first MARSSIM. The current MARSSIM document describes a consistent approach for planning, performing, and assessing building surface and surface soil final status surveys to meet established dose or risk-based release criteria, while at the same time encouraging an effective use of resources.

The MARSSIM document was first published in 1997, with errata and addenda pages published in 1998 and 1999. Revision 1 to MARSSIM was published in 2000, and additional errata and addenda pages were published as Attachment A in 2001. It provides guidance to federal agencies and other parties, including states, site owners, contractors and private entities on how to demonstrate that their site is in compliance with a radiation dose or risk-based regulation, otherwise known as a release criterion. The MARSSIM Workgroup is seeking SAB advice regarding proposed future revisions to the MARSSIM which is available at http://www.epa.gov/radiation/marssim/obtain.html. Background information about the consultation can be found on the SAB Web site at http://yosemite.epa.gov/sab/sabproduct.nsf/fedrgstr_activites/MARSSIM%20Revisions?OpenDocument.

Availability of Meeting Materials: The Agenda, roster of the augmented RAC, the charge to the SAB for the consultation, and other supplemental materials in support of the two-session public teleconference will be placed on the SAB Web site at http//:www.epa.gov/sab in advance of the teleconference and meeting.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide comment should contact the Designated Federal Officer directly at the contact information provided.

Oral Statements: In general, individuals or groups requesting an oral presentation at a teleconference will be limited to three minutes. Those interested in being placed on the public speakers list for the July 26 and 27, 2011 teleconference should contact Dr. Kooyoomjian at the contact information provided above no later than noon on July 22 2011. Written Statements: Written statements should be supplied to the DFO via e-mail at the contact information noted by noon July 22, 2011 for the teleconference, so that the information may be made available to the members of the augmented RAC for their consideration. Written statements should be supplied in one of the following electronic formats: Adobe Acrobat PDF, MS Word, MS PowerPoint, or Rich Text files in IBM-PC/Windows98/2000/XP format. It is the SAB Staff office general policy to post written comments on the Web page for the advisory meeting or teleconference. Submitters are requested to provide an unsigned version of each document, because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Kooyoomjian at (202) 564-2064, or e-mail kooyoomjian.jack@epa.gov. To request accommodation of a disability, please contact Dr. Kooyoomjian preferably at least ten days prior to the teleconference or meeting to give as much time as possible to process your request.

Dated: July 1, 2011.
Vanessa T. Vu,
Director, EPA Science Advisory Board Staff Office.

[FR Doc. 2011-17351 Filed 7-8-11; 8:45 am]

BILLING CODE 6560-50-P